DEPARTMENT OF JUSTICE

Antitrust Division

Issuance of Updated Guidance Regarding the Use of Arbitration and Case Selection Criteria

AGENCY: Antitrust Division, Department of Justice.

ACTION: Notice.

SUMMARY: This notice publishes updated and supplemental guidance on the use of arbitration by the Antitrust Division of the Department of Justice. The document includes case selection criteria to help identify Antitrust Division cases that would benefit from the application of arbitration. In addition, it includes guidance regarding practices that may be employed in an arbitration. The Antitrust Division is authorized to use alternative dispute resolution techniques, including arbitration, by the Administrative Dispute Resolution Act of 1990. This document updates and supplements previous Antitrust Division guidance regarding the appropriate use of ADR techniques.

ADDRESSES: The document is available on the Department's website at: https://www.justice.gov/atr/page/file/1336516/download.

FOR FURTHER INFORMATION CONTACT: David B. Lawrence, Chief, Competition Policy & Advocacy Section, Antitrust Division, U.S. Department of Justice, at (202) 305-9850, David.Lawrence@usdoj.gov.

Suzanne Morris,
Chief, Premerger and Division Statistics.

[FR Doc. 2020-26953 Filed 12-7-20; 8:45 am]

BILLING CODE 4410-11-P